DEPARTMENT OF THE TREASURY

Financial Management Service

Privacy Act of 1974; System of Records

AGENCY: Financial Management Service, Treasury.

ACTION: Notice of alteration of Privacy Act system of records.

SUMMARY: The Department of the Treasury, Financial Management Service (FMS), gives notice of a proposed alteration to the system of records entitled “Claims and Inquiry Records on Treasury Checks, and International Claimants,” which is subject to the Privacy Act of 1974, as amended (5 U.S.C. 552a). The system was last published in its entirety in the Federal Register on August 22, 2001, at 66 FR 44206.

DATES: Comments must be received no later than February 10, 2003. The proposed routine use will be effective February 18, 2003, unless the Department receives comments that would result in a contrary determination.

ADDRESSES: Comments must be submitted to the Financial Management Service, Financial Accounting and Services Division, 3700 East West Highway, Room 630F, Hyattsville, Maryland 20782. Comments may be submitted via e-mail to: judgment.fund@fms.treas.gov. Comments received will be available for inspection at the same address between the hours of 9 a.m. and 4 p.m. Monday through Friday.

FOR FURTHER INFORMATION CONTACT: Rose Brewer, Financial Management Service, Financial Accounting and Services Division, (202) 874-9186.

SUPPLEMENTARY INFORMATION: FMS makes payment on awards certified by the Foreign Claims Settlement Commission. The purpose of this new routine use is to enable FMS to more efficiently publicize information about unpaid claimants under the War Claims Act and the International Claims Settlement Act. Upon receiving a certified claim from the Foreign Claims Settlement Commission, FMS sends notice to the claimant to arrange for payment. FMS makes several attempts to contact claimants, but some of these claimants do not respond. Many claimants continue to go unpaid indefinitely. Publicizing these unpaid claims by means such as a public database maintained on the Internet with (1) claimant name, (2) city and state of last known address, and (3) amount outstanding should result in payment of numerous claims. Claimants can pursue these claims directly without the assistance of an intermediary. This routine use is consistent with the purpose for which the information was collected, that is, making payment to award holders.

The report required by 5 U.S.C. 552a(r) of the Privacy Act, has been submitted to the Committee on Government Reform and Oversight of the House of Representatives, the Committee on Governmental Affairs of the Senate, and the Office of Management and Budget, pursuant to Appendix I to OMB Circular A-130, Federal Agency Responsibilities for Maintaining Records About Individuals, dated November 30, 2000.

For the reasons set forth in the preamble, FMS proposes to alter system of records Treasury/FMS .003—Claims and Inquiry Records on Treasury Checks, and International Claimants, as follows:

Treasury/FMS .003

System Name: Claims and Inquiry Records on Treasury Checks, and International Claimants—Treasury/Financial Management Service.

* * * * *

Routine Uses of Records Maintained in the System, Including Categories of Users and the Purposes of Such Uses:

* * * * *

Description of changes: The first word “To” and the last word “and” are removed in routine use (7). Replace the lowercase “p” in the word “provide” in routine use (7) with an uppercase “P”. The comma “,” at the end of routine use (7) is replaced with a semicolon “;”. The period “.” at the end of routine use (8) is replaced with a semicolon “;” followed by the word “and”, and the following routine use is added at the end thereof:

“(9) Disclose information to the public when attempts by FMS to locate the claimant have been unsuccessful. This information is limited to the claimant's name and city and state of last known address, and the amount owed to the claimant. (This routine use does not apply to the Iran Claims Program or the Holocaust Survivors Claims Program or other claims programs that statutorily prohibit disclosure of claimant information.)”

* * * * *

Dated: December 31, 2002.
W. Earl Wright, Jr.,
Chief Management and Administrative Programs Officer.

[FR Doc. 03-266 Filed 1-8-03; 8:45 am]

BILLING CODE 4810-35-P